DEPARTMENT OF THE INTERIOR

Fish and Wildlife Service

[FWS-R2-ES-2024-N030; FXES11130200000-245-FF02ENEH00]

Endangered Wildlife; Recovery Permit Applications

AGENCY: Fish and Wildlife Service, Interior.

ACTION: Notice of receipt of permit applications; request for comments.

SUMMARY: We, the U.S. Fish and Wildlife Service, invite the public to comment on the following applications for a permit to conduct activities intended to recover and enhance endangered species survival. With some exceptions, the Endangered Species Act (ESA) prohibits certain activities that may impact endangered species, unless a Federal permit allows such activity. The ESA also requires that we invite public comment before issuing these permits.

DATES: To ensure consideration, please submit your written comments by August 16, 2024.

ADDRESSES:

Document availability: Request documents from the contact in the FOR FURTHER INFORMATION CONTACT section.

Comment submission: Submit comments by email to fw2_te_permits@fws.gov. Please specify the permit application you are interested in by number (e.g., Permit Record No. PER1234567).

FOR FURTHER INFORMATION CONTACT: Marty Tuegel, Supervisor, Environmental Review Division, by phone at 505-248-6651, or via email at marty_tuegel@fws.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

Background

With some exceptions, the Endangered Species Act of 1973, as amended (ESA; 16 U.S.C. 1531 et seq.), prohibits activities that constitute take of listed species unless a Federal permit is issued that allows such activity. The ESA's definition of “take” includes hunting, shooting, harming, wounding, or killing, and also such activities as pursuing, harassing, trapping, capturing, or collecting.

The ESA and our implementing regulations in the Code of Federal Regulations (CFR) at title 50, part 17, provide for issuing such permits and require that we invite public comment before issuing permits for activities involving listed species.

A recovery permit we issue under the ESA, section 10(a)(1)(A), authorizes the permittee to conduct activities with endangered or threatened species for scientific purposes that promote recovery or enhance the species' propagation or survival. These activities often include such prohibited actions as capture and collection. Our regulations implementing section 10(a)(1)(A) for these permits are found at 50 CFR 17.22 for endangered wildlife species, 50 CFR 17.32 for threatened wildlife species, 50 CFR 17.62 for endangered plant species, and 50 CFR 17.72 for threatened plant species.

Permit Applications Available for Review and Comment

Documents and other information submitted with these applications are available for review by any party who submits a request as specified in ADDRESSES. Our release of documents is subject to Privacy Act (5 U.S.C. 552a) and Freedom of Information Act (5 U.S.C. 552) requirements.

Proposed activities in the following permit requests are for the recovery and enhancement of propagation or survival of the species in the wild. We invite local, State, Tribal, and Federal agencies and the public to submit written data, views, or arguments with respect to these applications. The comments and recommendations that will be most useful and likely to influence agency decisions are those supported by quantitative information or studies. Please refer to the permit record number when submitting comments.

Permit record No. | Applicant | Species | Location | Activity | Type of take | Permit action
PER9229823 | Albuquerque Biological Park; Albuquerque, New Mexico | Sacramento Mountains checkerspot butterfly (Euphydryas anicia cloudcrofti), Koster's springsnail (Juturnia kosteri), Roswell springsnail (Pyrgulopsis roswellensis), Pecos gambusia (Gambusia nobilis), Zuni bluehead sucker (Catostomus discobolus yarrowi), Colorado pikeminnow (Ptychocheilus lucius), razorback sucker (Xyrauchen texanus), Gila topminnow (Poeciliopsis occidentalis), Rio Grande silvery minnow (Hybognathus amarus), Bolson tortoise (Gopherus flavomarginatus), Kemp's ridley sea turtle (Lepidochelys kempii), hawksbill sea turtle (Eretmochelys imbricata) | New Mexico | Capture, captive rearing, holding, educational display, captive propagation, headstarting | Harass, harm, capture | Renew/amend.
PER2182167 | Johnson, Kevin; Oklahoma City, Oklahoma | Gray bat (Myotis grisescens), lesser prairie-chicken (Tympanuchus pallidicinctus), red-cockaded woodpecker (Picoides borealis) | Alabama, Arkansas, Colorado, Florida, Georgia, Kansas, Kentucky, Louisiana, Mississippi, New Mexico, North Carolina, Oklahoma, South Carolina, Tennessee, Texas, Virginia | Presence/absence surveys | Harass, harm | New.
PER2333296 | Haverland, Matthew; San Marcos, Texas | Golden-cheeked warbler (Setophaga chrysoparia), lesser prairie-chicken (Tympanuchus pallidicinctus) | New Mexico, Texas | Presence/absence surveys | Harass, harm | Renew/amend.
PER10451034 | The Peregrine Fund Inc.; Boise, Idaho | Northern aplomado falcon (Falco femoralis septentrionalis) | Idaho, Texas | Capture, captive propagation, release | Harass, harm, capture | Amend.
PER10643788 | U.S. Army Garrison—Ft. Huachuca; Ft. Huachuca, Arizona | Southwestern willow flycatcher (Empidonax traillii extimus), Sonoran tiger salamander (Ambystoma mavortium stebbinsi) | Arizona | Presence/absence surveys | Harass, harm | Renew/amend.
PER10081279 | University of Texas at Austin—Marine Science Institute; Port Aransas, Texas | Kemp's ridley sea turtle (Lepidochelys kempii), hawksbill sea turtle (Eretmochelys imbricata), leatherback sea turtle (Dermochelys coriacea) | Texas | Rehabilitate, release, educational display, hold, tag, bio-sample, capture | Harass, harm, capture | Renew.
PER10644977 | ACI Environmental Consulting; Austin, Texas | Texas hornshell (Popenaias popeii) | Texas | Presence/absence surveys, relocations | Harass, harm, capture | Amend.
PER10660560 | University of New Mexico, Department of Biology; Albuquerque, New Mexico | Rio Grande silvery minnow (Hybognathus amarus), spikedace (Meda fulgida), loach minnow (Tiaroga cobitis) | Arizona, New Mexico | Presence/absence surveys, bio-sample | Harass, harm, capture | Renew/amend.
PER10147575 | Tetra Tech, Inc.; Albuquerque, New Mexico | Southwestern willow flycatcher (Empidonax traillii extimus) | Arizona, Colorado, New Mexico, Texas | Nest monitoring | Harass, harm | Amend.
PER9518898 | Texas A&M—Department of Ecology and Conservation Biology—Conway Lab; College Station, Texas | Big bend gambusia (Gambusia gaigei), Clear Creek gambusia (Gambusia heterochir), Comanche Springs pupfish (Cyprinodon elegans), fountain darter (Etheostoma fonticola), Leon Springs pupfish (Cyprinodon bovinus), Mexican blindcat (Prietella phreatophila), pecos gambusia (Gambusia nobilis), peppered chub (Macrhybopsis tetranema), sharpnose shiner (Notropis oxyrhynchus), smalleye shiner (Notropis buccula) | Texas | Voucher specimen, bio-sample | Harass, harm, capture, kill | New.
PER9357062 | Hardin, Alliah; Oklahoma City, Oklahoma | Lesser prairie-chicken (Tympanuchus pallidicinctus) | Colorado, Kansas, New Mexico, Oklahoma, Texas | Presence/absence surveys | Harass, harm | New.
PER3115167 | Beauregard, Nicholas; Flagstaff, Arizona | Southwestern willow flycatcher (Empidonax traillii extimus) | Arizona | Presence/absence surveys, nest monitoring | Harass, harm | Amend.
PER9548837 | La Tierra Environmental Consulting; Las Cruces, New Mexico | Northern aplomado falcon (Falco femoralis septentrionalis), southwestern willow flycatcher (Empidonax traillii extimus) | Arizona, New Mexico, Texas | Presence/absence surveys | Harass, harm | Renew/amend.
PER9657818 | U.S. Fish and Wildlife Service, Region 2—Mexican Wolf Recovery Program; Albuquerque, New Mexico | Gray wolf (Canis lupus), Mexican wolf (Canis lupus baileyi) | Colorado, Utah | Presence/absence surveys, management, capture, handling, propagation, tag, bio-sample, translocate | Harass, harm, capture | Amend.
PER9736936 | Becker, Daniel; Norman, Oklahoma | Indiana bat (Myotis sodalis), gray bat (Myotis grisescens) | Oklahoma | Presence/absence surveys, bio-sample, capture | Harass, harm, capture | New.
PER9717409 | Fort Worth Zoological Park; Fort Worth, Texas | Black-footed ferret (Mustela nigripes), Barton Springs salamander (Eurycea sosorum), Austin blind salamander (Eurycea waterlooensis), Houston toad (Bufo houstonensis), hawksbill sea turtle (Eretmochelys imbricata), Kemp's ridley sea turtle (Lepidochelys kempii) | Texas | Educational display, captive propagation, reintroduction, headstarting | Harass, harm | Renew/amend.
PER9932736 | Roistacher, Alicia; Norman, Oklahoma | Indiana bat (Myotis sodalis), gray bat (Myotis grisescens) | Oklahoma | Presence/absence surveys, bio-sample, capture | Harass, harm, capture | New.
PER10418800 | Troilo, Sarah; San Antonio, Texas | Golden-cheeked warbler (Setophaga chrysoparia) | Texas | Presence/absence surveys | Harass, harm | New.
PER10369722 | Ellisor, Samuel; Wimberley, Texas | Golden-cheeked warbler (Setophaga chrysoparia) | Texas | Presence/absence surveys | Harass, harm | New.
PER10693070 | Arizona Game and Fish Department; Phoenix, Arizona | Spikedace (Meda fulgida), loach minnow (Tiaroga cobitis) | Arizona | Presence/absence surveys, collect | Harass, harm, capture, kill | Amend.
PER0036360 | Aztec Engineering Group, Inc.; Phoenix, Arizona | Black-footed ferret (Mustela nigripes), southwestern willow flycatcher (Empidonax traillii extimus), Yuma Ridgway's rail (Rallus obsoletus yumanensis) | Arizona, New Mexico, Texas | Presence/absence surveys, nest monitoring | Harass, harm | Renew.
PER10420481 | American Southwest Ichthyological Researchers; Albuquerque, New Mexico | Colorado pikeminnow (Ptychocheilus lucius), razorback sucker (Xyrauchen texanus), Gila chub (Gila intermedia), Rio Grande silvery minnow (Hybognathus amarus), spikedace (Meda fulgida), loach minnow (Tiaroga cobitis) | Arizona, Colorado, New Mexico, Utah | Presence/absence surveys, collect, tag | Harass, harm | Renew/amend.

Public Availability of Comments

All comments we receive become part of the public record associated with this action. Requests for copies of comments will be handled in accordance with the Freedom of Information Act, National Environmental Policy Act, and Service and Department of the Interior policies and procedures. Before including your address, phone number, email address, or other personal identifying information in your comment, you should be aware that your entire comment—including your personal identifying information—may be made publicly available at any time. While you can ask us to withhold your personal identifying information from public review, we cannot guarantee that we will be able to do so. All submissions from organizations or businesses, and from individuals identifying themselves as representatives or officials of organizations or businesses, will be made available for public disclosure in their entirety.

Authority

We provide this notice under section 10 of the Endangered Species Act (16 U.S.C. 1531 et seq.).

Amy Lueders,
Regional Director, Southwest Region, U.S. Fish and Wildlife Service.

[FR Doc. 2024-15661 Filed 7-16-24; 8:45 am]

BILLING CODE 4333-15-P